INTERNATIONAL TRADE COMMISSION

[Investigation Nos. 731-TA-391-394, 396-397, 399 (Review) (Remand)]

Ball Bearings From France, Germany, Italy, Japan, Singapore, Sweden, and the United Kingdom; Notice and Scheduling of Remand Proceedings

AGENCY: United States International Trade Commission.

ACTION: Notice.

SUMMARY: The U.S. International Trade Commission (the Commission) hereby gives notice of the court-ordered remand of its five-year review in Investigation Nos. 731-TA-391-394, 396-397, and 399 (Review).

EFFECTIVE DATE: November 7, 2003.

FOR FURTHER INFORMATION CONTACT: Dong Jun Na (Office 615-U) (708-4827) (dna@usitc.gov) or Robert Carpenter (Office 615-AA) (205-3160) (rcarpenter@usitc.gov). Hearing-impaired individuals are advised that information on this matter can be obtained by contacting the Commission's TDD terminal on 202-205-1810. General information concerning the Commission may also be obtained by accessing its Internet server (http://www.usitc.gov).

SUPPLEMENTARY INFORMATION:

Background

On September 3, 2003, the Court of International Trade remanded the Commission's affirmative determination in Certain Bearings from China, France, Germany, Hungary, Italy, Japan, Romania, Singapore, Sweden, and the United Kingdom, Inv. Nos. AA1921-143, 731-TA-341, 343-345, 391-397, and 399 (Review), USITC Pub. 3309 (June 2000), in which the Commission determined that revocation of the antidumping duty orders on imports of ball bearings from France, Germany, Italy, Japan, Singapore, and the United Kingdom would be likely to lead to continuation or recurrence of material injury to a domestic industry within a reasonably foreseeable time. NMB Singapore Ltd. et al v. United States, Consol. Court No. 00-07-00373, Slip Op. 03-115 (September 3, 2003). On October 20, 2003, the Commission published its schedule for the remand proceedings in the Federal Register, 68 FR 59950.

Scheduling the Vote

The Commission will vote on the remand determination at a public meeting to be held on Monday, November 17, 2003. The meeting is tentatively scheduled for 11:00 a.m.

Authority: This action is taken under the authority of the Tariff Act of 1930, title VII.

By order of the Commission.
Issued: November 7, 2003.
Marilyn R. Abbott,
Secretary.

[FR Doc. 03-28533 Filed 11-13-03; 8:45 am]

BILLING CODE 7020-02-P